DEPARTMENT OF AGRICULTURE

Office of Advocacy and Outreach

[FOA No.: OAO-00007]

Socially Disadvantaged Farmers and Ranchers Policy Research Center

Catalog of Federal Domestic Assistance (CFDA) No.: 10.464.

AGENCY: Office of Advocacy and Outreach (OAO), United States Department of Agriculture (USDA).

ACTION: Funding Opportunity Announcement (FOA).

SUMMARY: This notice announces the availability of funds and solicits applications from eligible institutions to compete for financial assistance in the form of a grant to establish a Socially Disadvantaged Farmers and Ranchers Policy Research Center (The Center) at an 1890 Institution (as defined in 7 U.S.C. 7601).

Authority: The Agricultural Act of 2014, Title XII, Subtitle B, provides funding for a “Socially Disadvantaged Farmers and Ranchers Policy Research Center.” Section 12203 directs the Secretary to award a grant to a college or university eligible to receive funds under the Act of August 30, 1890 [Second Morrill Act] (7 U.S.C. 321 et seq.), including Tuskegee University, to establish a policy research center to be known as the “Socially Disadvantaged Farmers and Ranchers Policy Research Center” for the purpose of developing policy recommendations for the protection and promotion of the interests of socially disadvantaged farmers and ranchers.

The Center will collect and analyze data, develop policy recommendations, and evaluate policy concerning socially disadvantaged farmer and rancher issues.

We will award $400,000 in fiscal year (FY) 2014, ending September 30. Additional funds may be awarded in subsequent years.

DATES: Proposals must be received by September 11, 2014, at 5:00 p.m. EST, at www.grants.gov. Proposals received after this deadline will not be considered for funding.

ADDRESSES:

How to File a Complaint of Discrimination: To file a complaint of discrimination, complete the USDA Program Discrimination Complaint Form, which may be accessed online at http://www.ocio.usda.gov/sites/default/files/docs/2012/Complain_combined_6_8_12.pdf, or write a letter signed by you or your authorized representative.

Send your completed complaint form or letter to USDA by mail, fax, or email:

Mail: U.S. Department of Agriculture, Director, Office of Adjudication, 1400 Independence Avenue SW., Washington, DC 20250-9410.

Fax: (202) 690-7442.

Email: program.intake@usda.gov.

FOR FURTHER INFORMATION CONTACT:

Agency Contact: U.S. Department of Agriculture, Office of Advocacy and Outreach, Attn: Kenya Nicholas, Program Director, Whitten Building Room 520-A, 1400 Independence Avenue SW., Washington, DC 20250, Phone: (202) 720-6350, Fax: (202) 720-7136, Email: OASDVFR2014@osec.usda.gov.

Persons with Disabilities: Persons who require alternative means for communication (Braille, large print, audiotape, etc.), should contact USDA's TARGET Center at (202) 720-2600 (voice and TDD).

Funding/Awards: The total funding available for this competitive opportunity is $400,000. The OAO will award one new grant from this announcement.

Contents of This Announcement

I. Funding Opportunity Description

II. Award Information

III. Eligibility Information

IV. Proposal and Submission Information

V. Competitive Review and Evaluation Criteria

VI. Award Administration Information

I. Funding Opportunity Description

USDA's Office of Advocacy and Outreach (OAO) invites proposals for a competitive grant award to establish a new USDA Socially Disadvantaged Farmers and Ranchers Policy Research Center (The Center). The Center will specialize in policy research impacting socially disadvantaged farmers and ranchers. Land loss, land retention, and access to local, state, and federal programs will be major areas of research and policy development. The Center's director and staff will have experience and/or education required to understand the socially disadvantaged farmers and ranchers communities. The Center will propose how they will work with other institutions, as appropriate, inside and outside the land grant community.

Proposed recommendations resulting from the following list of activities, including but not limited to, shall be submitted to the Director of OAO:

• Analyze current agriculture policy and its implications on socially disadvantaged farmers and ranchers.

• Collect data on where USDA meetings are being held, and how socially disadvantaged farmers and ranchers participate.

• Make recommendations on improving participation rates of socially disadvantaged farmers and ranchers.

• Provide recommendations on how to improve diversity of county office staff and committees.

• Provide recommendations on actions to improve USDA program agencies' outreach and technical assistance to socially disadvantaged farmers and ranchers.

• Collect data on the history of the education of socially disadvantaged farmers and ranchers and evaluate the result of past educational efforts in the South and the abilities to meet the educational needs of socially disadvantaged farmers and ranchers today.

• Collect data on how socially disadvantaged farmers and ranchers receive agricultural information.

• Determine how many socially disadvantaged farmers and ranchers have received training on the use of information technology (IT) equipment and provide recommendations on ways to increase the utilization of IT for their farming organizations.

• Provide recommendations on improving the application approval process for socially disadvantaged farmers and ranchers applying for USDA assistance. Determine how past discrimination impacts access to present programs and provide recommendations to improve participation among socially disadvantaged farmers and ranchers.

• Collect data on the reasons for the decline of socially disadvantaged farms, ranches, and land ownership. Provide recommendations on how to track and maintain current data on the number and location of socially disadvantaged farmers and ranchers.

• Analyze data collected from all sources, and develop policy recommendations that will enable socially disadvantaged farmers and ranchers to stay in farming and preserve their lands.

II. Award Information

A. Statutory Authority

The statutory authority for this action is section 2501(i) of the Food, Agriculture, Conservation, and Trade Act of 1990 (7 U.S.C. 2279(i)), as added by section 12203 of the Agricultural Act of 2014, Public Law 113-79, which directs the Secretary of Agriculture to “award a grant to a college or university eligible to receive funds under the Act of August 30, 1890 (7 U.S.C. 321 et seq.), including Tuskegee University, to establish a policy research center to be known as the `Socially Disadvantaged Farmers and Ranchers Policy Research Center' for the purpose of developing policy recommendations for the protection and promotion of the interests of socially disadvantaged farmers and ranchers.”

B. Expected Amount of Funding

OAO expects to make one award in FY 2014 of $400,000 to fund the Center. Institutions shall submit only one proposal.

C. Project Period

The project period for awards resulting from this solicitation will not begin prior to the effective award date and will be for one year.

D. Award Type

Funding for the selected proposal will be in the form of a grant which must be fully executed no later than September 30, 2014. The anticipated Federal involvement will be limited to the following activities:

• Approval of awardees' final budget and statement of work accompanying the grant agreement;

• Monitoring of awardees' performance through quarterly and final reports;

• Evaluation of and feedback on awardees' use of federal funds through periodic performance and financial reports and on-site visits to ensure that objectives and award conditions are being met; and

• Facilitation of communication between the Center and USDA program agencies such as the Farm Service Agency, Natural Resources Conservation Service, Risk Management Agency, Rural Development, Forest Service, and Agricultural Research Service.

III. Eligibility Information

A. Eligible Applicants

Any 1890 Institution (as defined in 7 U.S.C. 7601) may apply.

B. Cost-Sharing or Matching

Matching is not required for this program.

C. Threshold Eligibility Criteria

Applications from eligible entities that meet all criteria will be evaluated as follows:

1. Proposals must comply with the submission instructions and requirements set forth in Section IV of this announcement. Pages in excess of the page limitation will not be considered.

2. Proposals must be received through www.grants.gov as specified in Section IV of this announcement on or before the proposal submission deadline. Applicants will receive an electronic confirmation receipt of their proposal from www.grants.gov.

3. Proposals received after the submission deadline will not be considered.

IV. Proposal and Submission Information

A. Obtain Proposal Package

Applicants may download individual grant proposal forms from www.grants.gov. For assistance with www.grants.gov, please consult the Applicant User Guide at (http://grants.gov/assets/ApplicantUserGuide.pdf).

B. Form of Proposal Submission

Applicants are required to submit proposals through www.grants.gov. Applicants will be required to register through www.grants.gov in order to begin the proposal submission process.

Proposals must be submitted by September 11, 2014, via www.grants.gov by 5:00 p.m. EST. Proposals received after this deadline will not be considered.

C. Content of Proposal Package Submission

These guidelines are provided to assist you in preparing a proposal. Please read them carefully before preparing your submission.

All submissions must contain completed and electronically signed original application forms, as well as the attachments described below:

• Forms. The listed forms can be found in the proposal package at www.grants.gov.

○ Standard Form 424, Application for Federal Assistance;

○ Standard Form 424A, Budget Information—Non-Construction Programs;

○ Standard Form 424B, Non-Construction Programs

• Attachments. These elements are required for all grant proposals and are included in the proposal package at www.grants.gov as fillable PDF templates. Applicants must download and complete these attachments and save the completed PDF files to the application submission portal at www.grants.gov. NOTE: Please number each page of each attachment and indicate the total number of pages per attachment (i.e., 1 of 10, 2 of 10, etc.).

○ Attachment 1: Program Summary Page. The proposal must contain a Program Summary Page, which must follow immediately after the budget form, and should not be numbered. The program summary is limited to 250 words. The program summary should be a self-contained, specific description of the activities to be undertaken. The summary should focus on the overall program goals and supporting objectives and plans to accomplish the goals. The importance of a concise, informative program summary cannot be overemphasized.

○ Attachment 2: Statement of Work. The statement of work format should be 25 double-spaced pages or less, one-inch margins, and 12-point font. The overall application may not exceed 45 pages, including attachments. The proposal should be assembled so that the statement of work immediately follows the Program Summary. To clarify page limitation requirements, page numbering for the statement of work should start with 1 and should be placed on the bottom of the page. All proposals are to be formatted for standard 8½″ x 11″ paper. The statement of work must address the following components:

(1) Active Research

A plan discussing the kind of socially disadvantaged farmer and rancher activities needed to inform important issues in the development of agriculture policy impacts to socially disadvantaged farmers and ranchers. The plan should demonstrate the applicant's deep knowledge of policy issues, past research projects and their impacts, and how current and future studies can further the knowledge base. The plan should describe how the Center will implement and develop capacity to conduct research on issues relevant to agricultural policy. The plan should outline a strategy for collaborating with OAO and USDA program agencies for the purpose of identifying topics and making recommendations on agricultural policy relating to socially disadvantaged farmers and ranchers.

(2) Staffing and Organizational Plan

The application must include a staffing and organizational proposal for the Center, including an analysis of the types of background needed among staff members. The application should discuss the Center's capacity to collaborate and issue sub-awards to researchers outside of the Center. Full resumes (2 page maximum) of proposed staff members should be included as a separate appendix to the application.

○ Attachment 3: Budget Narrative. The budget narrative should identify and describe the costs associated with the proposed Center, including sub-awards or contracts and indirect costs. Other funding sources may also be identified in this attachment. Each cost indicated must be fully allowable under the Federal Cost Principles in order to be funded. The budget narrative should not exceed 2 pages.

Funds may be requested under any of the budget categories listed below, provided that the item or service requested is identified as necessary for successful conduct of the proposed program, allowable under applicable Federal cost principles, and not prohibited under any applicable Federal statute or regulation.

Budget items include:

• Personnel

• Fringe benefits

• Travel

• Equipment

• Supplies

• Contractual items

• Other direct costs

• Indirect charges

Salaries of faculty members and other personnel who will be working on the program may be requested in proportion to the effort they will devote to the program.

Indirect costs are limited by Federal statute to the federally recognized audited rate for the institution. For reimbursement of indirect costs, the applicant must include with the application a copy of its indirect cost rate schedule that reports the applicant's federally negotiated audited rate.

Electronic copies of the standard budget form and general instructions are available at www.grants.gov as part of the application package.

○ Attachment 4: Appendices. Letters of Commitment, Letters of Support, and approvals or other actions are encouraged but not required documentation for this funding opportunity. However, applicants can consolidate all supplemental materials into one additional attachment. Do not include sections from other attachments as an Appendix.

D. Sub-Awards and Partnerships

The OAO awards funds to one eligible applicant as the awardee. Please indicate a lead applicant as the responsible party if other eligible applicants are named as partners or co-applicants or members of a coalition or consortium. The awardee is accountable to the OAO for the proper expenditure of all funds.

Funding may be used to provide sub-awards, which includes using sub-awards to fund partnerships; however, the awardee must utilize at least 50 percent of the total funds awarded, and no more than three subcontracts will be permitted. All sub-awardees must comply with applicable requirements for sub-awards. Applicants must compete for services, contracts, and products, including consultant contracts, and conduct cost and price analyses to the extent required by applicable procurement regulations.

E. Submission Dates and Times

The closing date and time for receipt of proposal submissions is September 11, 2014, by 5:00 p.m., EST via www.grants.gov. Proposals received after the submission deadline will be considered late without further consideration.

F. Confidential Information

In accordance with 7 CFR 2500.017, the names of entities submitting proposals, as well as proposal content and evaluations, will be kept confidential to the extent permissible by law. If an applicant chooses to include confidential or proprietary information in the proposal, it will be treated in accordance with Exemption 4 of the Freedom of Information Act (FOIA). Exemption 4 of the FOIA protects trade secrets, and commercial and financial information obtained from a person that is privileged or confidential.

G. Pre-Submission Proposal Assistance

• The OAO cannot assist individual applicants by reviewing draft proposals or providing advice on how to respond to evaluation criteria. However, the OAO will respond to questions from individual applicants regarding eligibility criteria, administrative issues related to the submission of the proposal, and requests for clarification regarding the announcement.

• The OAO will post questions and answers (Q&A's) relating to this funding opportunity during its open period at www.grants.gov on the following Web page: http://www.outreach.usda.gov/grants/. The OAO will update the Q&A's on a weekly basis and conduct webinars on an as-needed basis. Questions should be submitted to: OASDVFR2014@osec.usda.gov.

V. Competitive Review and Evaluation Criteria

A. Competitive Review

Only eligible entities whose proposals meet the threshold criteria in Section III of this announcement will be reviewed according to the evaluation criteria set forth below. Applicants should explicitly and fully address these criteria as part of their proposal package. Each proposal will be reviewed under the regulations established under 7 CFR Chapter XXV Part 2500 Subpart C.

Applications for the Center that meet the initial screening requirements will be evaluated and rated by a technical review panel. The panel will use the evaluation criteria listed below to score each application. The evaluation criteria are designed to assess the quality of the proposed program and to determine the probability of its success. The evaluation criteria are closely related and are considered as a whole in judging the overall quality of an application. Points are awarded only to applications that are responsive to the evaluation criteria within the context of this program announcement. These review results will be the primary element used by the OAO in making funding decisions. Reviewers will determine the strengths and weaknesses of each application in terms of the evaluation criteria listed below and assign numerical scores out of a possible

100 points. A summary of all applicant scores and strengths/weaknesses and recommendations will be prepared. A preliminary funding recommendation will be provided to the designated approving official who will make the final funding decision.

B. Evaluation Criteria

The point value following each criterion heading indicates the maximum numerical relative weight that each section will be given in the review process. Applicants should take care to ensure that all criteria are fully addressed in the applications.

Criteria | Points
(1) Active Research | 50
The applicant demonstrates a proven record of research, outreach, and community involvement within socially disadvantaged communities. The applicant will discuss the activities proposed to address important issues in the development of agricultural policy impacting socially disadvantaged farmers and ranchers. The applicant demonstrates knowledge of policy issues and past research projects on socially disadvantaged farmers and ranchers. The applicant describes in detail how the Center will implement its statement of work to develop capacity to conduct research and provide recommendations on agricultural policy relevant to socially disadvantaged farmers and ranchers. The applicant outlines a strategy for collaborating with OAO and USDA program agencies on agricultural policy relating to socially disadvantaged farmers and ranchers.
(2) Staffing and Organizational Arrangements | 25
The applicant's proposed Center Director and staff demonstrate appropriate levels of experience, administrative skills, public administration experience, and relevant technical expertise. The applicant demonstrates an adequate level of Center Director and staff time commitments to the Center. The applicant demonstrates an ability to work in collaboration with other practitioners as well as existing or planned relationships with researchers at other institutions. The applicant demonstrates the nature and extent of the organization's support for research. The applicant demonstrates the commitment of the university (and proposed institutional unit that will contain the Center) to support the Center's major activities.
(3) Budget and Resource Allocation | 25
The applicant provides a budget that yields an efficient and effective allocation of funds to achieve the objectives of this announcement, as well as core administrative functions necessary to carry out the Center's mission. The application includes a narrative description and justification for proposed budget line items and demonstrates that the project's costs are adequate, reasonable, and necessary for the activities or personnel to be supported. The budget and narrative demonstrate a clear relationship to the approach. The applicant demonstrates the manner in which funds will be allocated to best serve the Center's goal, including but not limited to, the level of indirect costs: (1) Charged by the Center and (2) allowed to the institutions of researchers receiving sub-awards.

C. Selection of Reviewers

Reviewers will be selected based upon training and experience in relevant fields including, outreach, technical assistance, cooperative extension services, education, statistical, and ethnographic data collection and analysis, and agricultural programs. Reviewers will be drawn from a diverse group of experts to create balanced review panels. More information on the selection of reviewers can be found in 7 CFR 2500.023.

VI. Award Administration Information

A. Award Notices

Proposal Notifications and Feedback

1. The successful applicant will be notified by the OAO via telephone, email, or postal mail. The notification will advise the applicant that its proposed project has been evaluated and recommended for award. The notification will be sent to the original signer of the SF-424, Application for Federal Assistance. The award notice will be forwarded to the grantee for execution and returned to the OAO grants officer, who is the authorizing official. Once grant documents are executed by all parties, authorization to begin work will be given.

2. The OAO will send notification to unsuccessful applicants via email or postal mail. The notification will be sent to the original signer of the SF-424, Application for Federal Assistance.

3. Applicant feedback will be provided using the procedures established by 7 CFR 2500.026.

B. Administrative and National Policy Requirements

All awards resulting from this FOA will be administered in accordance with the OAO assistance regulations codified at 7 CFR Part 2500. A listing and description of general federal regulations and cost principles applicable to the award of assistance agreements under this FOA can be found in 7 CFR 2500.003.

Applicable Federal statutes, regulations, and guidelines include the following: (a) Guidelines to be followed when submitting grant proposals and cooperative agreements and rules governing the evaluation of proposals; (b) the USDA Uniform Administrative Requirements for Grants and Agreements with Institutions of Higher Education, Hospitals, and Other Non-Profit Organizations, 7 CFR Part 3019; (c) the USDA Uniform Federal Assistance Regulations, 7 CFR Part 3015; and (d) the USDA Uniform Administrative Requirements for Grants and Cooperative Agreements to State and Local Governments, 7 CFR Part 3016.

C. Data Universal Numbering System, System for Award Management, and Central Contractor Registry Registration

In accordance with the Federal Funding Accountability and Transparency Act (FFATA) and the USDA implementation, all applicants must obtain and provide an identifying number from Dun and Bradstreet's (D&B) Data Universal Numbering System (DUNS). Applicants can receive a DUNS number, at no cost, by calling the toll-free DUNS Number request line at 1-866-705-5711, or visiting the D&B Web site at www.dnb.com.

In addition, FFATA requires applicants to register with the Central Contractor Registry (CCR) and the System for Award Management (SAM). This registration must be maintained and updated annually. Applicants can register or update their profile, at no cost, by visiting the SAM Web site at www.sam.gov which will satisfy both the CCR and SAM registration requirements.

D. Reporting Requirement

In accordance with 7 CFR 2500.045 and 2500.046, the following reporting requirements will apply to awards provided under this FOA. The OAO reserves the right to revise the schedule and format of reporting requirements as necessary in the award agreement.

1. Quarterly progress reports and financial reports will be required.

• Quarterly Progress Reports. The awardee must submit the OMB-approved Performance Progress Report form (SF-PPR, Approval Number: 0970-0334). For each report, the awardee must complete fields 1 through 12 of the SF-PPR. To complete field 10, the awardee is required to provide a detailed narrative of project performance and activities as an attachment, as described in the award agreement. Quarterly progress reports must be submitted to the designated OAO official within 30 calendar days after the end of each calendar quarter.

• Quarterly Financial Reports. The awardee must submit the Standard Form 425, Federal Financial Report. For each report, the awardee must complete both the Federal Cash Transaction Report and the Financial Status Report sections of the SF-425. Quarterly financial reports must be submitted to the designated OAO official within 30 calendar days after the end of each calendar quarter.

2. Final progress and financial reports will be required upon project completion. The final progress report should include a summary of the project or activity throughout the funding period, achievements of the project or activity, and a discussion of problems experienced in conducting the project or activity. The final financial report should consist of a complete SF-425 indicating the total costs of the project. Final progress and financial reports must be submitted to the designated OAO official within 90 calendar days after the completion of the award period.

Signed this 6th day of August 2014.
Carolyn C. Parker,
Director, Office of Advocacy and Outreach.

[FR Doc. 2014-18981 Filed 8-11-14; 8:45 am]

BILLING CODE P